DEPARTMENT OF TRANSPORTATION

Federal Aviation Administration

RTCA Special Committee 200: Integrated Modular Avionics (IMA)/EUROCAE WG-60

AGENCY: Federal Aviation Administration (FAA), DOT.

ACTION: Notice of RTCA Special Committee 200 meeting.

SUMMARY: The FAA is issuing this notice to advise the public of a meeting of RTCA Special Committee 200: Integrated Modular Avionics.

DATES: The meeting will be held on September 14-17, 2004 from 9 a.m. to 5 p.m.

ADDRESSES: The meeting will be held at RTCA, 1828 L Street, NW., Suite 805, Washington, DC 20036-5133.

FOR FURTHER INFORMATION CONTACT: (1) RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 200 meeting. The agenda will include:

• September 14:

• Editorial Committee Meeting

• Subgroup Meetings: Edit document

• September 15:

• Opening Session (Welcome, Introductory and Administrative Remarks, Review Agenda, Review Summary of Previous Meeting)

• Review Action Items

• Reports on Related Committee Activities

• Subgroup Reports

• Review Status of Document

• Assignment of Action Items

• Subgroup Meetings: Edit Document

• September 16:

• Subgroup Meetings: Edit Document

• Inter-Subgroup Meetings: Work Mutual Action Items

• September 17:

• Subgroup Reports

• Review Status of Document

• Review/Assignment of Action Items

• Closing Session (Make Assignments, Date and Place of Next Meeting, Closing Remarks, Adjourn)

Attendance is open to the interested public but limited to space availability. With the approval of the Chairmen, members of the public may present oral statements at the meeting. Persons wishing to present statements or obtain information should contact the person listed in the FOR FURTHER INFORMATION CONTACT section. Members of the public may present a written statement to the committee at any time.

Issued in Washington, DC, on August 17, 2004.
Robert Zoldos,
FAA Systems Engineer, RTCA Advisory Committee.

[FR Doc. 04-19625 Filed 8-26-04; 8:45 am]

BILLING CODE 4910-13-M